DEPARTMENT OF AGRICULTURE

Forest Service

Final Record of Decision for Lake Tahoe Basin Management Unit Land Management Plan

AGENCY: Forest Service, USDA.

ACTION: Notice of plan approval for the Lake Tahoe Basin Management Unit.

SUMMARY: Regional Forester Randy Moore signed the final Record of Decision (ROD) for the Lake Tahoe Basin Management Unit (LTBMU) revised Land Management Plan (Plan) on June 20, 2016. The final ROD documents the Regional Forester's decision and rationale for approving the revised Plan.

DATES: The effective date of the Plan is 30 calendar days after publication of this notice.

FOR FURTHER INFORMATION CONTACT: To view the final ROD, revised Plan, FEIS, and other related documents, please visit the LTBMU Web site at http://www.fs.usda.gov/goto/ltbmu/ForestPlanRevision.

Further information about the LTBMU planning process can be obtained from Mike LeFevre during normal office hours (weekdays 8:00 a.m. to 4:30 p.m. at the LTBMU Supervisor's Office. Phone/voicemail: 530-543-2641. Address: Lake Tahoe Basin Management Unit; 35 College Drive; South Lake Tahoe, CA 96150. Individuals who use telecommunication devices for the deaf (TTD) may call the Federal Information Relay Service (FIRS) at 1-800-877-8339 between 8:00 a.m. and 8:00 p.m., Eastern Standard Time, Monday through Friday.

SUPPLEMENTARY INFORMATION: The revised Plan describes desired conditions, objectives, standards and guidelines, and identifies lands suitable for various uses. The Plan will guide project and activity decision making and resource management activities on the LTBMU for the next 15 years. The Plan is part of the long-range resource planning framework established by the Forest and Rangeland Renewable Resources Planning Act and the National Forest Management Act.

Dated: June 20, 2016.
Randy Moore,
Regional Forester, Pacific Southwest Region.

[FR Doc. 2016-15284 Filed 6-27-16; 8:45 am]

BILLING CODE 3411-15-P